DEPARTMENT OF COMMERCE

National Oceanic and Atmospheric Administration

RIN 0648-XE009

Marine Mammals; File Nos. 18722, 18897, 19425, and 19497

AGENCY: National Marine Fisheries Service (NMFS), National Oceanic and Atmospheric Administration (NOAA), Commerce.

ACTION: Notice; receipt of applications.

SUMMARY: Notice is hereby given that the following entities have applied in due form for a permit to receive, import, and export specimens of marine mammals for scientific research:

File No. 18722: Cornell University, 157 Biotechnology Building, Ithaca, NY 14850 [Responsible Party: Sharron Mitchell, Ph.D.];

File No. 18897: Kathleen Colegrove, Ph.D., University of Illinois, College of Veterinary Medicine, Zoological Pathology Program, LUMC Room 0745, Building 101, 2160 South First Street, Maywood, IL 60153;

File No. 19425: Melissa McKinney, Ph.D., University of Connecticut, Center for Environmental Sciences and Engineering, 3107 Horsebarn Hill Road, U-4210, Storrs, CT 06269;

File No. 19497: University of Florida, Aquatic Animal Health Program, College of Veterinary Medicine, Gainesville, FL 32608 [Responsible Party: Thomas Waltzek, Ph.D.].

DATES: Written, telefaxed, or email comments must be received on or before July 27, 2015.

ADDRESSES: The applications and related documents are available for review by selecting “Records Open for Public Comment” from the “Features” box on the Applications and Permits for Protected Species (APPS) home page, https://apps.nmfs.noaa.gov, and then selecting the appropriate File No. from the list of available applications.

These documents are also available upon written request or by appointment in the Permits and Conservation Division, Office of Protected Resources, NMFS, 1315 East-West Highway, Room 13705, Silver Spring, MD 20910; phone (301) 427-8401; fax (301) 713-0376.

Written comments on these applications should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: The following Analysts at (301) 427-8401: Rosa L. González (File No. 19497), Carrie Hubard (File No. 19425), Brendan Hurley (File Nos. 18722 and 18897) and Jennifer Skidmore (File Nos. 18722, 18897, 19425, 19497).

SUPPLEMENTARY INFORMATION: The subject permits are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

File No. 18722: The applicant is proposing to: (1) Import/export and receive marine mammal DNA samples from dead beach-cast carcasses, and (2) receive, import/export specimens from scientists in academic, federal, and state institutions involved in marine mammal research under their own permits. The samples will be used for genotyping by sequencing to analyze single nucleotide polymorphisms in studies of genetic variation. Unlimited samples from up to 2000 pinnipeds (excluding walrus) and 2000 cetaceans would be received, imported, or exported during the duration of this permit. This permit is only for the import/export/receipt of DNA samples. Import/export activities would occur world-wide. No live animals would be harassed or taken, lethally or otherwise, under the requested permit. The permit is requested for a five-year period.

File No. 18897: The applicant is proposing to import marine mammal parts (bones and organ tissue samples) from: (1) Foreign animals either euthanized, found stranded, or in captivity (including animals in rehab), or (2) animals captured/sampled by other researchers under separate permits for such activities. The purpose of the proposed research includes diagnostic testing to determine the causes of outbreaks or unusual natural mortalities and investigations into the ecology of diseases in free-ranging animals or unexpected mortalities in captive populations. Unlimited samples from up to 100 pinnipeds (excluding walrus) and 100 cetaceans would be imported during the duration of this permit. Import activities would occur world-wide. There would be no live or lethal taking resulting from the importation of samples. The permit is requested for a five-year period.

File No. 19425: The applicant proposes to study marine mammal contaminant levels, specifically using fatty acid and stable isotopes to examine diets and contaminant loads and how they are affected by climate change. Tissue samples would come from remote biopsy sampling, captured animals, and animals collected during subsistence harvests. Samples would originate in the United States, Canada, and Greenland/Denmark. Cetacean and pinniped samples (up to 50 of each species group per year, except for those species specified below) would be analyzed, with a focus on the following Arctic species: ringed seal (30 per year), bearded seal (10 per year), and narwhal (10 per year). No takes of live animals would be authorized under this permit. The permit would be valid for five years after issuance.

File No. 19497: The applicant proposes to receive, import, and export tissue and other specimen materials (e.g., body fluids) to research the etiologies and cofactors of emerging marine mammal infectious diseases, utilizing standard molecular and sequencing approaches. Unlimited samples from up to 300 individual cetaceans and 700 individual pinnipeds (excluding walrus) would be received, imported, or exported annually on an opportunistic basis. Samples would be obtained from the following marine mammal sources: (1) Killed during legal U.S. or foreign subsistence harvests; (2) stranded dead or that died during rehabilitation in foreign countries; (3) died incidental to commercial fishing operations in foreign countries where such taking is legal; (4) died incidental to commercial fishing operations in the U.S. where such taking is legal; (5) in captivity where samples were taken as a result of routine husbandry procedures or under separate permit; and (6) from other authorized researchers or collections in academic, federal, state or other institutions involved in marine mammal research in the U.S. or abroad. Samples collected from stranded animals in the U.S. and received under separate authorization may be exported and reimported. No takes of live animals are requested or would be permitted. The applicant has requested a five-year permit.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the applications to the Marine Mammal Commission and its Committee of Scientific Advisors.

Dated: June 23, 2015.
Julia Harrison,
Chief, Permits and Conservation Division, Office of Protected Resources, National Marine Fisheries Service.

[FR Doc. 2015-15753 Filed 6-25-15; 8:45 am]

BILLING CODE 3510-22-P[PRTPAGE P='1']